NUCLEAR REGULATORY COMMISSION

[Docket No. 50-326]

University of California, Irvine, Nuclear Research Reactor; Environmental Assessment and Finding of no Significant Impact

The U.S. Nuclear Regulatory Commission (NRC) is considering the issuance of a license amendment to Facility Operating License No. R-116, issued to University of California, Irvine (the licensee) for operation of their research reactor.

Environmental Assessment

Identification of the Proposed Action

The proposed action would allow renewal of the license for 20 years for the University of California, Irvine Nuclear Reactor Facility (UCINRF). The proposed action is in accordance with the licensee's application for amendment dated October 18, 1999, as amended on April 24, and June 2, 2000. The licensee submitted an Environmental Report for license renewal.

Need for the Proposed Action

The proposed action is needed to allow continued operation of the UCINRF in order to continue education, training, research and development using neutrons and radioisotopes for experimental purposes beyond the current term of the license.

Environmental Impact of the Proposed Action

The research reactor is on the campus of the University of California, Irvine in Rowland Hall. Rowland Hall has research and teaching laboratories, lecture halls, classrooms, offices and workshops. It is surrounded by similar facilities in the immediate area.

The UCINRF is authorized by a NRC license to operate at steady-state thermal power levels up to a maximum of 250 kilowatts (KW). The reactor can also be operated in a pulse mode with reactivity addition of up to $3 in a short period from power levels of 1 KW or less. The construction permit was issued on May 5, 1969, and the operating license was issued on November 24, 1969. The reactor has operated less than 218 effective full-power days over the approximate 30-year license period as indicted in SAR Section 1.3.2. Facility modifications have been minor as, outlined in the SAR Section 1.4. The licensee has not indicated any plans to significantly change the design or the level of usage. Since initial operation, the gaseous Argon-41 radiological release has been conservatively estimated to be less than 5.9 × 10 ⁹ becquerels per year (0.160 curies per year). Average concentrations of Argon-41 were conservatively estimated by the licensee as 2.4 × 10 ⁻⁹ microcuries/milliliter. This concentration is well below the 10 CFR 20 Appendix B Table 2 limit of 1.0 × 10 ⁻⁸ microcuries/milliliter. Since 1992, the facility has had no radiological liquid or solid radiological releases. Material has been stored as required. Releases of radioactive material have been transferred and disposed of in accordance with the requirements of the licensee's byproduct license. Any necessary releases will be similarly treated. Currently, there are no plans to change any operating or radiological release practices or characteristics of the reactor during the license renewal period.

The NRC concludes that conditions are not expected to change and that the radiological effects of the continued operation will continue to be minimal. The radiological exposures for facility operations have been within regulatory limits and should continue to remain so.

The proposed action will not significantly increase the probability or consequences of accidents, no changes are being made in the types of any effluents that may be released offsite and there is no significant increase in occupational or public radiation exposure. Therefore, there are no significant radiological environmental impacts associated with the proposed action.

As for potential non-radiological impacts, the proposed action does not involve any historic sites. It does not affect non-radiological effluents and has no other environmental impact. Therefore, no significant non-radiological environmental impacts and associated with the proposed action.

In addition, the environmental impact associated with operation of research reactors has been generically evaluated by the staff and is discussed in the attached generic evaluation. This evaluation concludes that no significant environmental impact is associated with the operation of research reactors licensed to operate at power levels up to and including 2 megawatts thermal. We have determined that this generic evaluation is applicable to operation of the UCINRF and that there are no special or unique features that would preclude reliance on the generic evaluation.

Accordingly, the NRC concludes that there are no significant environmental impacts associated with the proposed action.

Alternatives to the Proposed Action

The alternative to the proposed action for the research reactor facility is to deny the application. If the NRC denied license renewal, UCINRF operations would stop and decommissioning would be required with, likely, a small impact on the environment. The environmental impacts of the proposed action and alternative are similar.

Alternative Use of Resources

This action does not involve the use of any resources not previously considered in the safety analysis and evaluation for construction permit issuance and operating license issued in 1969.

Agencies and Persons Contacted

On July 25, 2000, the staff consulted with the California Department of Health Official, Steve Hsu, regarding the environmental impact of the proposed action. The State officials had no comment.

Finding of no Significant Impact

On the basis of the environmental assessment, the NRC concludes that the proposed action will not have a significant effect on the quality of the human environment. Accordingly, the NRC has determined not to prepare an environmental impact statement for the proposed action.

For further details with respect to the proposed action, see the licensee's letter dated October 18, 1999, as amended on April 24, and June 2, 2000. A hard copy is available for public inspection at the NRC's Public Document Room, the Gelman Building, 2120 L Street, NW., Washington, DC 20555. Publicly available records will also be accessible electronically from the ADAMS Public Library component on the NRC Web site, http://www.nrc.gov (the Electronic Reading Room).

Dated at Rockville, Maryland, this 25th day of August 2000.
For the Nuclear Regulatory Commission.
Ledyard B. Marsh,
Chief, Events Assessment, Generic Communications, and Non-Power Reactors Branch, Division of Regulatory Improvement Programs, Office of Nuclear Reactor Regulation.

[FR Doc. 00-22495 Filed 8-31-00; 8:45 am]

BILLING CODE 7590-01-P